DEPARTMENT OF THE TREASURY

Submission for OMB Review; Comment Request

February 13, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 24, 2003, to be assured of consideration.

Financial Management Service (FMS)

OMB Number: 1510-0067.

Form Number: FMS 5902 and 5903.

Type of Review: Extension.

Title: Resolution Authorizing Execution of Depositary, Financial Agency, and Collateral Agreement (FMS 5902); and, Depositary, Financial Agency, and Collateral Agreement (FMS 5903).

Description: Financial institutions are required to complete an agreement and resolution to become a depositary of the government. The approved applications designate the depositary as an authorized recipient of deposits of public money and to perform other services.

Respondents: Business or other for-profit.

Estimated Number of Respondents: 15.

Estimated Burden Hours Per Respondent: 30 minutes.

Frequency of Response: Other (one-time application).

Estimated Total Reporting Burden: 7 hours.

Clearance Officer: Juanita Holder, Financial Management Service, 3700 East West Highway, Room 135, PGP II, Hyattsville, MD 20782.

OMB Reviewer: Joseph F. Lackey, Jr., (202) 395-7316, Office of Management and Budget, Room 10235, New Executive Office Building, Washington, DC 20503.

Mary A. Able,
Departmental Reports, Management Officer.

[FR Doc. 03-4196 Filed 2-20-03; 8:45 am]

BILLING CODE 4810-35-P